DEPARTMENT OF COMMERCE

Foreign-Trade Zones Board

[Docket 18-2004]

Foreign-Trade Zone 183—Austin, TX Subzone 183A—Dell Computer Corporation Application for Reorganization/Expansion

An application has been submitted to the Foreign-Trade Zones Board (the Board) by the Foreign Trade Zone of Central Texas, Inc., grantee of FTZ 183, requesting authority to reorganize and expand FTZ 183 and SZ 183A (Dell Computer Corporation) in Austin, Texas, within and adjacent to the Austin Customs port of entry. The application was submitted pursuant to the provisions of the Foreign-Trade Zones Act, as amended (19 U.S.C. 81a-81u), and the regulations of the Board (15 CFR part 400). It was formally filed on May 5, 2004.

FTZ 183 was approved on December 23, 1991 (Board Order 550, 57 FR 42, 1/2/92), expanded twice in 1998 (Board Order 964, 63 FR 13837, 3/23/98; Board Order 994, 63 FR 39071, 7/21/98), expanded in 1999 (Board Order 1035, 64 FR 19978, 4/23/99), and expanded in 2001 (Board Order 1143, 66 FR 16650, 3/27/01). The zone currently consists of eight sites in the Austin, Texas, area: Site 1 (291 acres, 7 parcels)—Austin Enterprise site, within the Austin Enterprise Zone Area along Highway 290 and the Ben White Boulevard-Montopolis Drive area, Austin; Site 2 (50 acres)—Balcones Research site located in north central Austin at the intersection of Burnett Road and Longhorn Boulevard; Site 3 (1,612 acres, 13 parcels) High Tech Corridor site located along I-35, 14 miles north of downtown Austin (site straddles Austin-Round Rock City line); Site 4 (122 acres) Cedar Park site, some 8 miles northwest of the Austin city limits, in Williamson County; Site 5 (246 acres, 2 parcels) Round Rock “SSC” site located along I-35 between Chandler Road and Westinghouse Road on the northern edge of the City of Round Rock; Site 6 (246 acres) Georgetown site, located along I-35 and U.S. 81, south of downtown Georgetown; Site 7 (40 acres) San Marcos site, located within the San Marcos Municipal Airport facility in eastern San Marcos, adjacent to State Highway 21, on the Hays County/Caldwell County line; and, Site 8 (200 acres) MET Center industrial park located between U.S. Highway 183 South and State Highway 71 East in southeast Austin, some 5 miles northwest of the new Austin Bergstrom International Airport.

Subzone 183A was approved on November 16, 1992 (Board Order 607, 57 FR 56902, 12/1/92) and expanded in 1996 (Board Order 861, 62 FR 1316, 1/9/97), in 1997 (Board Order 912, 62 FR 42486, 8/7/97) and in 1999 (Board Order 1068, 64 FR 72643, 12/28/99). The subzone currently consists of the following six sites in Austin: Site 1 (55 acres)—located at the Braker Center Industrial Park at the intersection of Braker Lane and Metric Boulevard; Site 2 (12 acres)—McKalla 2 (124,000 sq. ft.) located at 2500 McHale Court within the Rutland Center Industrial Park and McKalla 1 (135,000 sq. ft.) located at 10220 McKalla Drive; Site 3 (11 acres)—Research 1 (100,685 sq. ft.) located at 8701 Research Boulevard; Site 4 (33 acres, 546,750 sq. ft.)—located in Metric Center at 9500-9800 Metric Boulevard, 9715 Burnet Road and 2106 W. Rundberg; Site 5 (4 acres, 61,676 sq. ft.)—located in Longhorn Business Park at 2545 Brockton Drive; and, Site 6 (11 acres, 96,000 sq. ft.)—located in Walnut Creek Corporate Center at 8619 and 8701 Wall Street.

The applicant is requesting authority to reorganize and expand the zone project as follows:

—Remove 75 acres from FTZ 183—Site 4 (Cedar Park) due to changed circumstances (new total—47 acres);

—Remove McKalla 1 parcel (6.5 acres) located at 10220 McKalla Drive from SZ 183A—Site 2 (new total—5.5 acres);

—Remove Metric 6 parcel (3.1 acres) located at 9500-9800 Metric Boulevard and Metric 4/12 parcel (21.5 acres) located at 9715 Burnett Road from SZ 183A—Site 4 (new total—8.4 acres); and,

—Expand FTZ 183—Site 3 (High-Tech Corridor) to include an additional 84 acres at: Metric Center (45.5 acres—which includes the McKalla 1, Metric 6 and Metric 4/12 parcels, and two new buildings—Metric 10E and 10W) in Austin; and, Crystal Park (38.5 acres, 5 buildings) located at 110, 116, 120, 106D and 106E Old Settlers Boulevard in Round Rock (new total—1,696 acres).

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is July 12, 2004. Rebuttal comments in response to material submitted during the foregoing period may be submitted during the subsequent 15-day period (to July 26, 2004.

A copy of the application and accompanying exhibits will be available during this time for public inspection at address Number 1 listed above, and at the U.S. Department of Commerce Export Assistance Center, 1700 North Congress, Suite 130, Austin, TX 78701.

Dated: May 5, 2004.
Dennis Puccinelli,
Executive Secretary.

[FR Doc. 04-10770 Filed 5-11-04; 8:45 am]

BILLING CODE 3510-DS-P